DEPARTMENT OF THE TREASURY

Internal Revenue Service

Open Meeting of the Wage & Investment Reducing Taxpayer Burden (Notices) Issue Committee of the Taxpayer Advocacy Panel

AGENCY: Internal Revenue Service (IRS), Treasury.

ACTION: Notice.

SUMMARY: An open meeting of the Wage & Investment Reducing Taxpayer Burden (Notices) Issue Committee of the Taxpayer Advocacy Panel will be conducted in Washington, DC. The Taxpayer Advocacy Panel is soliciting public comments, ideas and suggestions on improving customer service at the Internal Revenue Service.

DATES: The meeting will be held Wednesday, December 13, 2006 from 1:15 p.m. EST to 3 p.m. EST and Thursday, December 14, 2006 from 8 a.m. to 9:55 a.m. EST.

FOR FURTHER INFORMATION CONTACT: Sallie Chavez at 1-888-912-1227, or 954-423-7979.

SUPPLEMENTARY INFORMATION: Notice is hereby given pursuant to Section 10(a)(2) of the Federal Advisory Committee Act, 5 U.S.C. App. (1988) that an open meeting of the Wage & Investment Reducing Taxpayer Burden (Notices) Issue Committee of the Taxpayer Advocacy Panel will be held Wednesday, December 13, 2006 from 1:15 p.m. EST to 3 p.m. EST and Thursday, December 14, 2006 from 8 a.m. EST to 9:55 a.m. EST at the Hyatt Regency on Capitol Hill, 400 New Jersey Ave., NW., Washington, DC 20001. If you would like to have the TAP consider a written statement, please call 1-888-912-1227 or 954-423-7979, or write Sallie Chavez, TAP Office, 1000 South Pine Island Road, Suite 340, Plantation, FL 33324. For additional information, please contact Ms. Sallie Chavez. Ms. Chavez can be reached at 1-888-912-1227 or 954-423-7979, or post comments to the Web site: http://www.improveirs.org.

The agenda will include: Various IRS issues.

Dated: November 21, 2006.
John Fay,
Acting Director, Taxpayer Advocacy Panel.

[FR Doc. E6-20075 Filed 11-27-06; 8:45 am]

BILLING CODE 4830-01-P